SECURITIES AND EXCHANGE COMMISSION

[File No. 500-1]

Fusion Pharm, Inc.; Order of Suspension of Trading

May 16, 2014.

It appears to the Securities and Exchange Commission that there is a lack of current and accurate information concerning the securities of FusionPharm, Inc. (“FusionPharm”) because of questions regarding the accuracy of assertions by FusionPharm and by others, in filings and disclosures made by FusionPharm on OTC Link (previously “Pink Sheets”) operated by OTC Markets Group. Inc. and press releases to investors concerning, among other things: (1) The company's assets; (2) the company's revenues; (3) the company's financial statements; (4) the company's business transactions; and (5) the company's current financial condition.

The Commission is of the opinion that the public interest and the protection of investors require a suspension of trading in the securities of the above-listed company.

Therefore, it is ordered, pursuant to Section 12(k) of the Securities Exchange Act of 1934, that trading in the above-listed company is suspended from the period 9:30 a.m. EDT, on May 16, 2014, through 11:59 p.m. EDT, on May 30, 2014.

By the Commission.
Jill M. Peterson,
Assistant Secretary.

[FR Doc. 2014-11739 Filed 5-16-14; 11:15 am]

BILLING CODE 8011-01-P